INTERNATIONAL TRADE COMMISSION

[Investigation No. 337-TA-1041]

Certain Digital Television Set-Top Boxes, Remote Control Devices, and Components Thereof; Institution of Investigation

AGENCY: U.S. International Trade Commission.

ACTION: Notice.

SUMMARY: Notice is hereby given that a complaint was filed with the U.S. International Trade Commission on January 26, 2017, under section 337 of the Tariff Act of 1930, as amended, on behalf of OpenTV, Inc. of Mountain View, California; Nagra USA, Inc. of San Francisco, California; Nagravision SA of Switzerland; and Kudelski SA of Switzerland. A supplement was filed on February 13, 2017. The complaint alleges violations of section 337 based upon the importation into the United States, the sale for importation, and the sale within the United States after importation of certain digital television set-top boxes, remote control devices, and components thereof by reason of infringement of certain claims of U.S. Patent No. 6,345,389 (“the '389 patent”); U.S. Patent No. 7,028,327 (“the '327 patent”); and U.S. Patent No. 7,725,720 (“the '720 patent”). The complaint further alleges that an industry in the United States exists or is in the process of being established as required by subsection (a)(2) of section 337.

The complainants request that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2016).

Scope of Investigation: Having considered the complaint, the U.S. International Trade Commission, on February 27, 2017, ordered that—

(1) Pursuant to subsection (b) of section 337 of the Tariff Act of 1930, as amended, an investigation be instituted to determine whether there is a violation of subsection (a)(1)(B) of section 337 in the importation into the United States, the sale for importation, or the sale within the United States after importation of certain digital television set-top boxes, remote control devices, and components thereof by reason of infringement of one or more of claims 1, 2, 9-11, and 13-16 of the '389 patent; claims 13 and 36 of the '327 patent; and claims 1, 2, 5, and 8 of the '720 patent, and whether an industry in the United States exists or is in the process of being established as required by subsection (a)(2) of section 337;

(2) For the purpose of the investigation so instituted, the following are hereby named as parties upon which this notice of investigation shall be served:

(a) The complainants are:

OpenTV, Inc., 485 Clyde Avenue, Mountain View, CA 94043

Nagra USA, Inc., 275 Sacramento Street, San Francisco, CA 94111

Nagravision SA, 22-24, Route de Genève, 1033 Cheseaux-sur-Lausanne, Switzerland

Kudelski SA, 22-24, Route de Genève, 1033 Cheseaux-sur-Lausanne, Switzerland

(b) The respondents are the following entities alleged to be in violation of section 337, and are the parties upon which the complaint is to be served:

Comcast Corporation, One Comcast Center, 1701 John F. Kennedy Boulevard, Philadelphia, Pennsylvania 19103

Comcast Cable Communications, LLC, One Comcast Center, 1701 John F. Kennedy Boulevard, Philadelphia, PA 19103

Comcast Cable Communications Management, LLC, One Comcast Center, 1701 John F. Kennedy Blvd., Philadelphia, PA 19103

Comcast Business Communications, LLC, One Comcast Center, 1701 John F. Kennedy Blvd., Philadelphia, PA 19103

Comcast STB Software I, LLC, 1201 N. Market Street, Suite 1000, Wilmington, Delaware 19801

ARRIS International plc, 3871 Lakefield Drive, Suwanee, GA 30024

ARRIS Group, Inc., 3871 Lakefield Drive, Suwanee, GA 30024

ARRIS Technology, Inc., 101 Tournament Drive, Horsham, PA 19044

ARRIS Enterprises LLC, 3871 Lakefield Drive, Suwanee, GA 30024

ARRIS Solutions, Inc., 3871 Lakefield Drive, Suwanee, GA 30024

ARRIS Global Ltd. (formerly Pace Ltd.), Victoria Road, Saltaire, West Yorkshire BD18 3LF, England

Pace Americas, LLC, 3701 FAU Boulevard, Suite 200, Boca Raton, FL 33431

Pace USA, LLC, 3701 FAU Boulevard, Suite 200, Boca Raton, FL 33431

Universal Electronics Inc., 201 E. Sandpointe Avenue, Santa Ana, CA 92707

Gemstar Technology (China) Co. Ltd., Gemstar Industrial Park, No. 45, Zhong'Er Section, Shinguang Road, Guangzhou, Guangdong, 511495 China

Gemstar Technology (Qinzhou) Co. Ltd., Hedong Industrial Park, Qinzhou, Guangxi Province, 535000 China

Gemstar Technology (Yangzhou) Co. Ltd., 1 Junsheng Road Industry Park, Fanshui Industrial Zone, Baoying, Yanzhou, 225800 China

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: February 27, 2017.
Lisa R. Barton,
Secretary to the Commission.

[FR Doc. 2017-04099 Filed 3-2-17; 8:45 am]

BILLING CODE 7020-02-P